FEDERAL TRADE COMMISSION

16 CFR Chapter I

Notice of Intent To Request Public Comments

AGENCY: Federal Trade Commission.

ACTION: Notice of intent to request public comments.

SUMMARY: As part of its ongoing, systematic review of all Federal Trade Commission rules and guides, the Commission announces a modified ten-year regulatory review schedule. No Commission determination on the need for, or the substance of, the rules and guides listed below should be inferred from the notice of intent to publish requests for comments.

DATES: Effective April 13, 2012.

FOR FURTHER INFORMATION CONTACT: Further details about particular rules or guides may be obtained from the contact person listed below for the rule or guide.

SUPPLEMENTARY INFORMATION: To ensure that its rules and industry guides stay relevant and are not unduly burdensome, the Commission reviews its rules and guides on a ten-year schedule. Each year the Commission publishes its review schedule, with adjustments in response to public input, changes in the marketplace, and resource demands.

When the Commission reviews a rule or guide, it publishes a notice in the Federal Register seeking public comment on the continuing need for the rule or guide as well as the rule's or guide's costs and benefits to consumers and businesses. Based on this feedback, the Commission may modify or repeal the rule or guide to address public concerns or changed conditions, or to reduce undue regulatory burden.

The Commission posts information about its review schedule on its Web site,¹ thereby facilitating comment about rules and guides, and providing links in one location to comment requests, comment forms, and comments for rules and guides that are currently under review. The Web site also has a continuously updated review schedule, a list of rules and guides previously eliminated in the regulatory review process, and the Commission's regulatory review plan.

¹ http://www.ftc.gov/ftc/regreview/index.shtml.

When the Commission published its regulatory review schedule for 2011-2020, it also sought input on ways to improve its regulatory review program.² The Commission received three comments in response.³

² Federal Trade Commission: Notice Announcing Ten-Year Regulatory Review Schedule and Request for Public Comment on the Federal Trade Commission's Regulatory Review Program, 76 FR 41150 (July 13, 2011).

³ These comments are available on the Commission's Web site at http://www.ftc.gov/os/comments/regulatoryreviewschedule/index.shtm.

Two commenters, the Association of Home Appliance Manufacturers (“AHAM”) and Whirlpool Corporation (“Whirlpool”), urged the Commission to reconsider its earlier decision to accelerate review of the Appliance Labeling Rule to 2012. AHAM explained, and Whirlpool concurred, that the Commission should avoid frequent rule revisions unless existing requirements are outdated, overly burdensome, or deficient. However, the Appliance Labeling Rule warrants a comprehensive review at this time that will allow the Commission to consider burden reductions associated with existing reporting requirements, explore ways to reduce the number of labels missing in showrooms, improve access to label information on retail Web sites, and consider whether additional consumer products should have energy labels. Therefore, the Commission has proceeded with the scheduled review of the Appliance Labeling Rule, 16 CFR part 305.

The Chamber of Commerce of the United States of America submitted a comment that noted the Commission's commitment to regulatory review and reduction of unnecessary burdens on business, but did not address the questions posed by the Commission, or any other aspect of the Commission's regulatory review plan. Rather, it expressed various concerns, principally relating to transparency and scope, regarding Commission enforcement of Section 5 of the Federal Trade Commission Act, 15 U.S.C. 45. The Commission notes that it is familiar with these concerns generally, has addressed them in various forums, and will continue to do so.

Modified Ten-Year Schedule for Review of FTC Rules and Guides

For 2012, the Commission intends to initiate reviews of, and solicit public comments on, the following guides:

(1) Guides for the Rebuilt, Reconditioned and Other Used Automobile Parts Industry, 16 CFR part 20. Agency Contact: Jonathan L. Kessler, (216) 263-3436, Federal Trade Commission, East Central Region, 1111 Superior Ave E # 200, Cleveland, OH 44114-2577.

(2) Guides for the Jewelry, Precious Metals, and Pewter Industries, 16 CFR part 23. Agency Contact: Reenah Kim, (202) 326-2272, Federal Trade Commission, Bureau of Consumer Protection, Division of Enforcement, 600 Pennsylvania Ave. NW., Washington, DC 20580.

(3) Guides for Advertising Allowances and Other Merchandising Payments and Services, 16 CFR part 240. Agency Contact: Michael Bloom, (202) 326-2475, Federal Trade Commission, Bureau of Competition, 600 Pennsylvania Ave. NW., Washington, DC 20580.

The Commission is currently reviewing 22 of the 65 rules and guides within its jurisdiction. Due to resource constraints caused by the large number of rules and guides under review, the Commission is postponing review of the following matters previously scheduled for review in 2012: Guides Against Deceptive Pricing, 16 CFR part 233; Guides Against Bait Advertising, 16 CFR part 238; Guides Concerning Use of the Word “Free” and Similar Representations, 16 CFR part 251; and the Preservation of Consumers' Claims and Defenses Rule [Holder in Due Course Rule], 16 CFR part 433. It is postponing the reviews of the three guides until 2017, and the review of the rule until 2013.

The Commission is also consolidating its review of the Hart-Scott-Rodino Antitrust Improvements Act Coverage Rules, 16 CFR part 801; and the Hart-Scott-Rodino Antitrust Improvements Act Exemption Rules, 16 CFR part 802, with its next review in 2020 of the Hart-Scott-Rodino Antitrust Improvement Act Transmittal Rules.⁴

⁴ The Hart-Scott-Rodino (“HSR”) program includes an ongoing review of all the HSR rules. In 2011, the Commission made significant changes to 16 CFR part 803 by overhauling the premerger notification form. The Commission also amended the definition of “associates” in 16 CFR part 801, and made minor amendments to several exemption rules in 16 CFR part 802. See the Statement of Basis and Purpose, Federal Trade Commission: Premerger Notification; Reporting and Waiting Period Requirements, 76 FR 42471 (July 19, 2011) at http://www.gpo.gov/fdsys/pkg/FR-2011-07-19/pdf/2011-17822.pdf. As this review covered all sections of the HSR rules, it is appropriate to consolidate future reviews of these rules with the next scheduled review of 16 CFR part 803. The Commission will accelerate these reviews if necessary.

A copy of the Commission's modified regulatory review schedule for 2012 through 2021 is appended. The Commission, in its discretion, may modify or reorder the schedule in the future to incorporate new rules, or to respond to external factors (such as changes in the law) or other considerations.

Authority: 15 U.S.C. 41-58.

By direction of the Commission.
Donald S. Clark,
Secretary.

Appendix

Regulatory Review
Modified Ten-Year Schedule
16 CFR part | Topic | Year to review
239 | Guides for the Advertising of Warranties and Guarantees | Currently Under Review.
254 | Guides for Private Vocational and Distance Education Schools | Currently Under Review.
259 | Guide Concerning Fuel Economy Advertising for New Automobiles | Currently Under Review.
260 | Guides for the Use of Environmental Marketing Claims | Currently Under Review.
300 | Rules and Regulations Under the Wool Products Labeling Act of 1939 | Currently Under Review.
301 | Rules and Regulations Under Fur Products Labeling Act | Currently Under Review.
303 | Rules and Regulations Under the Textile Fiber Products Identification Act | Currently Under Review.
305 | Appliance Labeling Rule | Currently Under Review.
306 | Automotive Fuel Ratings, Certification and Posting | Currently Under Review.
308 | Trade Regulation Rule Pursuant to the Telephone Disclosure and Dispute Resolution Act of 1992 [Pay Per Call Rule] | Currently Under Review.
309 | Labeling Requirements for Alternative Fuels and Alternative Fueled Vehicles | Currently Under Review.
312 | Children's Online Privacy Protection Rule | Currently Under Review.
423 | Care Labeling of Textile Wearing Apparel and Certain Piece Goods | Currently Under Review.
424 | Retail Food Store Advertising and Marketing Practices [Unavailability Rule] | Currently Under Review.
425 | Use of Prenotification Negative Option Plans | Currently Under Review.
429 | Rule Concerning the Cooling-Off Period for Sales Made at Homes or at Certain Other Locations | Currently Under Review.
435 | Mail or Telephone Order Merchandise | Currently Under Review.
455 | Used Motor Vehicle Trade Regulation Rule | Currently Under Review.
700 | Interpretations of Magnuson-Moss Warranty Act | Currently Under Review.
701 | Disclosure of Written Consumer Product Warranty Terms and Conditions | Currently Under Review.
702 | Pre-Sale Availability of Written Warranty Terms | Currently Under Review.
703 | Informal Dispute Settlement Procedures | Currently Under Review.
20 | Guides for the Rebuilt, Reconditioned and Other Used Automobile Parts Industry | 2012.
23 | Guides for the Jewelry, Precious Metals, and Pewter Industries | 2012.
240 | Guides for Advertising Allowances and Other Merchandising Payments and Services | 2012.
310 | Telemarketing Sales Rule | 2013.
433 | Preservation of Consumers' Claims and Defenses [Holder in Due Course Rule] | 2013.
500 | Regulations Under Section 4 of the Fair Packaging and Labeling Act | 2013.
501 | Exemptions From Requirements and Prohibitions under Part 500 | 2013.
502 | Regulations Under Section 5(c) of the Fair Packaging and Labeling Act | 2013.
503 | Statements of General Policy or Interpretation [under the Fair Packaging and Labeling Act] | 2013.
304 | Rules and Regulations Under the Hobby Protection Act | 2014.
314 | Standards for Safeguarding Customer Information | 2014.
315 | Contact Lens Rule | 2015.
316 | CAN-SPAM Rule | 2015.
456 | Ophthalmic Practice Rules (Eyeglass Rule) | 2015.
460 | Labeling and Advertising of Home Insulation | 2016.
682 | Disposal of Consumer Report Information and Records | 2016.
233 | Guides Against Deceptive Pricing | 2017.
238 | Guides Against Bait Advertising | 2017.
251 | Guide Concerning Use of the Word AFree@ and Similar Representations | 2017.
410 | Deceptive Advertising as to Sizes of Viewable Pictures Shown by Television Receiving Sets | 2017.
18 | Guides for the Nursery Industry | 2018.
311 | Test Procedures and Labeling Standards for Recycled Oil | 2018.
436 | Disclosure Requirements and Prohibitions Concerning Franchising | 2018.
681 | Identity Theft [Red Flag] Rules | 2018.
24 | Guides for Select Leather and Imitation Leather Products | 2019.
453 | Funeral Industry Practices | 2019.
14 | Administrative Interpretations, General Policy Statements, and Enforcement Policy Statements | 2020.
255 | Guides Concerning Use of Endorsements and Testimonials in Advertising | 2020.
313 | Privacy of Consumer Financial Information | 2020.
317 | Prohibition of Energy Market Manipulation Rule | 2020.
318 | Health Breach Notification Rule | 2020.
432 | Power Output Claims for Amplifiers Utilized in Home Entertainment Products | 2020.
444 | Credit Practices | 2020.
640 | Duties of Creditors Regarding Risk-Based Pricing | 2020.
641 | Duties of Users of Consumer Reports Regarding Address Discrepancies | 2020.
642 | Prescreen Opt-Out Notice | 2020.
660 | Duties of Furnishers of Information to Consumer Reporting Agencies | 2020.
680 | Affiliate Marketing | 2020.
698 | Model Forms and Disclosures | 2020.
801 | [Hart-Scott-Rodino Antitrust Improvements Act] Coverage Rules | 2020.
802 | [Hart-Scott-Rodino Antitrust Improvements Act] Exemption Rules | 2020.
803 | [Hart-Scott-Rodino Antitrust Improvements Act] Transmittal Rules | 2020.
437 | Disclosure Requirements and Prohibitions Concerning Business Opportunities | 2021.

[FR Doc. 2012-8742 Filed 4-12-12; 8:45 am]

BILLING CODE 6750-01-P